GENERAL SERVICES ADMINISTRATION

[FMR Bulletin PBS-2008&ndash;B5]

Federal Management Regulation; Redesignations of Federal Buildings

AGENCY: Public Buildings Service (P), GSA.

ACTION: Notice of a bulletin.

SUMMARY: The attached bulletin announces the redesignations of three Federal buildings.

Expiration Date: This bulletin expires August 1, 2008. However, the building redesignations announced by this bulletin will remain in effect until canceled or superseded.

FOR FURTHER INFORMATION CONTACT: General Services Administration, Public Buildings Service (P), Attn: Anthony E. Costa, 1800 F Street, NW., Washington, DC 20405, e-mail at anthony.costa@gsa.gov. (202) 501-1100.

Dated: March 4, 2008.
Lurita Doan,
Administrator of General Services.

To: Heads of Federal Agencies.

Subject: Redesignations of Federal Buildings.

1. What is the purpose of this bulletin? This bulletin announces the redesignations of three Federal buildings.

2. When does this bulletin expire? This bulletin expires August 1, 2008. However, the building redesignations announced by this bulletin will remain in effect until canceled or superseded.

3. Redesignations. The former and new names of the redesignated buildings are as follows:

Former name | New name
United States Courthouse, 301 North Miami Avenue, Miami, FL 33128 | C. Clyde Atkins United States Courthouse, 301 North Miami Avenue, Miami, FL 33128.
Federal Building, 210 Walnut Street, Des Moines, IA 50309 | Neal Smith Federal Building, 210 Walnut Street, Des Moines, IA 50309.
Federal Building and United States Courthouse, 100 East 8th Avenue, Pine Bluff, AR 71601 | George Howard, Jr. Federal Building and United States Courthouse, 100 East 8th Avenue, Pine Bluff, AR 71601.

4. Who should we contact for further information regarding redesignation of these Federal Buildings? U.S. General Services Administration, Public Buildings Service (P), Attn: Anthony E. Costa, 1800 F Street, NW., Washington, DC 20405, telephone number: (202) 501-1100, e-mail at anthony.costa@gsa.gov.

Dated: March 4, 2008.
Lurita Doan,
Administrator of General Services.

[FR Doc. E8-5395 Filed 3-17-08; 8:45 am]

BILLING CODE 6820-23-P